DEPARTMENT OF ENERGY

Federal Energy Regulatory Commission

[Project No. 2244-022]

Energy Northwest; Notice of Availability of Draft Environmental Assessment

February 5, 2009.

In accordance with the National Environmental Policy Act (NEPA) of 1969 and the Federal Energy Regulatory Commission's (Commission) regulations, 18 CFR Part 380 (Order No. 486, 52 FR 47879), the Office of Energy Projects has reviewed the application for a new major license for the Packwood Lake Hydroelectric Project (project), located on Lake Creek in Lewis County, Washington, and has prepared a draft Environmental Assessment (EA). In the draft EA, Commission staff analyze the potential environmental effects of licensing the project and conclude that issuing a license for the project, with appropriate environmental measures, would not constitute a major federal action significantly affecting the quality of the human environment.

A copy of the draft EA is on file with the Commission and is available for public inspection. The draft EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 30 days from the issuance date of this notice, and should be addressed to the Secretary, Federal Energy Regulatory Commission, 888 First Street, NE., Room 1-A, Washington, DC 20426. Please affix “Packwood Lake Hydroelectric Project No. 2244-022” to all comments. Comments may be filed electronically via Internet in lieu of paper. The Commission strongly encourages electronic filings (See 18 CFR 385.2001(a)(1)(iii) and the instructions on the Commission's Web site under the “eFiling” link). For further information, contact Kenneth Hogan at (202) 502-8434.

Kimberly D. Bose,
Secretary.

[FR Doc. E9-2964 Filed 2-11-09; 8:45 am]

BILLING CODE 6717-01-P